DEPARTMENT OF LABOR

Employment and Training Administration

[TA-W-53,757]

Authentic Fitness Corporation, Commerce, California; Notice of Termination of Investigation

Pursuant to section 221 of the Trade Act of 1974, as amended, an investigation was initiated on December 10, 2003, in response to a petition filed on behalf of workers at Authentic Fitness Corporation, Commerce, California.

The petitioning group of workers is covered by an active certification issued on November 6, 2003, and which remains in effect (TA-W-53,132). Consequently, further investigation in this case would serve no purpose, and the investigation has been terminated.

Signed in Washington, DC this 16th day of December, 2003.
Richard Church,
Certifying Officer, Division of Trade Adjustment Assistance.

[FR Doc. 04-290 Filed 1-6-04; 8:45 am]

BILLING CODE 4510-30-P